DEPARTMENT OF TRANSPORTATION

Surface Transportation Board

[STB Finance Docket No. 35025]

Napa-Platte Regional Railroad Authority—Lease and Operation Exemption—Dakota Short Line Corp.

Napa-Platte Regional Railroad Authority (NPRRA), a noncarrier, has filed a verified notice of exemption under 49 CFR 1150.31 to lease and to operate a line of railroad from the State of South Dakota extending from milepost 0.0, near Napa, SD, to milepost 13.4+/−, near Tabor, SD, in Bon Homme and Yankton Counties, SD (Napa-Tabor line). NPRRA would provide common carrier rail operations over the Napa-Tabor line through a third-party operator or would sub-lease the line to a third-party rail carrier. NPRRA states that, as a result of this transaction, and based on the projected revenues for the line, it expects to become and remain a Class III rail carrier.

This transaction is related to the concurrently filed notice for a modified certificate of public convenience and necessity in STB Finance Docket No. 35026, Napa-Platte Regional Railroad Authority—Modified Rail Certificate—Between Tabor and Ravinia, SD, wherein NPPRA seeks to extend the term of its operational authority over a connecting line segment between Tabor and Ravinia, SD (Tabor-Ravinia line) until the sale of both the Napa-Tabor line and the Tabor-Ravinia line to Wagner Native Energy, LLC (Wagner) has been completed.¹

¹ The Napa-Tabor line is a segment of a larger line leased by NPRRA from the State of South Dakota. The entire line extends from milepost 0.0 in Napa County, SD, to milepost 83.3 in Platte, SD, and consists of three segments (the Napa-Tabor line, the Tabor-Ravinia line, from milepost 13.4+/−to milepost 54.4, and the Ravinia-Platte line, from milepost 54.4 to milepost 83.3). According to NPRRA, Wagner and the State of South Dakota are negotiating for the sale to Wagner of the Napa-Tabor line and the Tabor-Ravinia line. Upon consummation of that sale transaction, Wagner would, according to NPRRA, operate over the segments as a common carrier through the use of a third-party rail carrier.

NPRRA certifies that the projected annual revenue as a result of this transaction will not exceed $5 million. The earliest this transaction can be consummated is June 14, 2007, the effective date of the exemption (30 days after the exemption was filed).

If the notice contains false or misleading information, the exemption is void ab initio. Petitions to revoke the exemption under 49 U.S.C. 10502(d) may be filed at any time. The filing of a petition to revoke does not automatically stay the transaction. Petitions for stay must be filed no later than June 7, 2007 (at least 7 days before the exemption becomes effective).

An original and 10 copies of all pleadings, referring to STB Finance Docket No. 35025, must be filed with the Surface Transportation Board, 395 E Street, SW., Washington, DC 20423-0001. In addition, a copy of each pleading must be served on Kenneth Cotton, Wipf & Cotton Law Offices LLC, 107 South Main Street, Wagner, SD 57380.

Board decisions and notices are available on its Web site at WWW.STB.DOT.GOV.

Decided: May 23, 2007.
By the Board, David M. Konschnik, Director, Office of Proceedings.
Vernon A. Williams,
Secretary.

[FR Doc. E7-10324 Filed 5-30-07; 8:45 am]

BILLING CODE 4915-01-P